DEPARTMENT OF LABOR

Office of the Secretary

Proposed Information Collection Extension Without Change for Three Primary and Two Secondary Data Collection Instruments Used To Collect Follow-up Data About Individuals Who Are No Longer Actively Participating in Job Corps, But Had Graduated From Job Corps, or Had Been in the Program at Least 60 Days and Left Before Completing Graduation Requirements (Former Enrollees): Comment Request

AGENCY: Office of Job Corps.

ACTION: 60-day notice of information collection under review: OMB Control No. 1205-0426.

SUMMARY: The Department of Labor, as part of its continuing effort to reduce paperwork and respondent burden conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Office of Job Corps is soliciting comments concerning the collection of data for post-center surveys of Job Corps graduates and former enrollees (OMB Control Number 1205-0426).

A copy of the proposed information collection request (ICR) can be obtained by contacting the office listed below in the addressee section of this notice or by accessing: http://www.doleta.gov/OMBCN/OMBControlNumber.cfm.

DATES: Written comments must be submitted to the office listed in the ADDRESSES section on or before May 11, 2009.

ADDRESSES: Submit written comments to Aquila Branch, Room N-4507, Office of Job Corps, 200 Constitution Avenue, NW., Washington, DC 20210. Telephone number: 202-693-3211 (this is not a toll free number). Fax: 202-693-2767. E-mail: branch.aquila@dol.gov.

SUPPLEMENTARY INFORMATION:

I. Background

Job Corps is an intensive, residential training program for at-promise youth age 16 through 24 to address multiple barriers to employment faced by youth throughout the United States. Job Corps is authorized by Title I, Subtitle C, of the Workforce Investment Act (WIA) of 1998. The program is principally carried out through a nationwide network of 122 Job Corps centers. The centers are located at facilities either owned or leased by the Federal Government. The Department has a direct role in the operation of Job Corps, and does not serve as a pass-through agency for this program. It is the Department's responsibility to establish Job Corps centers and to select operators for them. Of the 122 current centers, 28 are operated by the Departments of Agriculture and the Interior, through interagency agreements. These centers are located on Federal lands controlled by these two agencies. The remaining 94 centers are managed and operated by large and small corporations and nonprofit organizations selected by the Department in accordance with the Federal Acquisition Regulations, and in most cases through a competitive procurement process. Many of the current contractors manage and operate more than one center.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

This submission requests approval of three primary and two secondary data collection instruments that will be used to collect follow-up data about individuals who are no longer actively participating in Job Corps. These youths either graduated from Job Corps or stayed in the program at least 60 days but left before completing graduation requirements (former enrollees). These data collection activities will be conducted with the following groups of recent Job Corps participants:

• Former enrollees who were placed in a job or school program. This group will be contacted 90 days after separation.

• Graduates who were placed in a job or school program. This group will be contacted 90 days after initial placement.

• Graduates who were placed in a job or school program. This group will be contacted 6 months after initial placement.

• Graduates who were placed in a job or school program. This group will be contacted 12 months after initial placement.

The data collection instrument for graduates 90 to 120 days after their initial placement is called Interim Checkpoint for Eligibility (ICFE). Administration of the ICFE at this time will facilitate the key data collection at 6 and 12 months. This submission also requests approval for two brief questionnaires (one for employers and one for schools or training institutions) that will be used to collect reverification data about initial placement for the subset of placed graduates and former enrollees that cannot be contacted directly.

To maximize the comparability of the data collected from the different subgroups of students, the ICFE, the 90-day follow-up for former enrollees, and the 6-month and 12-month follow-up sections of the data collection instruments use modules with identical sets of questions on the same topics. The questions are designed to obtain:

• Data to reverify the initial job or school placements of placed graduates and former enrollees (only in the instruments administered at 90 days and the ICFE).

• Information about employment experiences in the previous week.

• Information about educational experiences in the previous week.

• Summary information about the work, school, and job search activities of those who were neither working nor in school the previous week.

• Information about satisfaction with the services provided by Job Corps.

Type of Review: Extension without Change.

Agency: Office of the Secretary, U.S. Department of Labor.

Title: Job Corps Placement Verification and Follow-up of Job Corps Participants.

OMB Number: 1205-0426.

Agency Numbers: N/A.

Recordkeeping: The respondent is not required to retain records; Career Transition Service providers and center staff are required to retain records of graduates and former enrollees, who are placed in a job, further education or military service, for three years.

Affected Public: Individual or households and Business/Education for profit institutions.

This data collection is envisioned as an annual process that will support the administration of approximately 73,373 Job Corps telephone interviews that, on average, are 10 to 15 minutes in duration. The combined reporting burden for respondents associated with this data collection effort is anticipated to be about 15,593 hours. (See Table 1 below.)

Table 1—Estimates of Respondent Burden
Respondent category | Number of respondents | Average time (hours) per respondent | Estimated hours
Placed Former Enrollees at 90 days | 1,824 | 0.25 | 456
Placed Graduates at 90-120 days | 21,330 | 0.25 | 5,333
Placed Graduates at Six Months | 22,420 | 0.20 | 4,484
Placed Graduates at 12 Months | 19,794 | 0.20 | 3,959
Employer/Institution Re-Verification | 8,005 | 0.17 | 1,361
Total | 73,373 |  | 15,593

Total Respondents: 73,373.

Estimated Total Burden Hours: 15,593.

Total Burden Cost (capital/startup): N/A.

Total Burden Cost (operating/maintaining): The estimated cost of funding this data collection effort in 2008 was $2,712,035. This estimate includes the ongoing maintenance of the infrastructure needed to administer the CATI system, ongoing data communication to and from the Job Corps Data Center, data collection using telephone interviews from trained staff who are non-Job Corps employees, data processing including coding of occupational and industry information, and preparation of summary data tabulations. Supervision of this total system is also included here.

There are no costs to the respondents for participating in this survey. All telephone or postage costs for contacting the respondents are borne by the Federal government through the data collection contractors.

Comments submitted in response to this comment request will be summarized and/or included in the request for Office of Management and Budget approval of the information collection request; they will also become a matter of public record.

Esther R. Johnson,
Administrator, Office of Job Corps.

[FR Doc. E9-5320 Filed 3-11-09; 8:45 am]

BILLING CODE 4510-FT-P